DEPARTMENT OF ENERGY

Federal Energy Regulatory Commission

[Docket No. ER01-2688-001, et al.]

Gilroy Energy Center, L.L.C., et al.; Electric Rate and Corporate Regulation Filings

October 5, 2001.

Take notice that the following filings have been made with the Commission:

1. Gilroy Energy Center, LLC

[Docket No. ER01-2688-001]

Take notice that on October 2, 2001, Gilroy Energy Center, LLC (the Applicant), submitted for filing with the Federal Energy Regulatory Commission (Commission) a first Substitute Sheet Nos. 2 and 3 to its FERC Electric Tariff No. 1, in compliance with the Commission Staff Letter issued in this Docket on September 21, 2001.

Comment date: October 23, 2001, in accordance with Standard Paragraph E at the end of this notice.

2. San Diego Gas & Electric Company

[Docket No. ER01-3093-000]

Take notice that on October 2, 2001, San Diego Gas & Electric Company (SDG&E) tendered for filing with the Federal Energy Regulatory Commission (FERC or Commission), its Service Agreements numbers 9 and 10 to its FERC Electric Tariff, First Revised Volume No. 6, two interconnection agreements. Both agreements relate to the interconnection of a new generation plant to be owned by CalPeak Power -Enterprise, LLC (CalPeak Enterprise). The plant, with a capacity of 49 MW, is being constructed on an expedited basis to meet potential shortfalls in the Western states' electric supplies. It will be located near the City of Escondido in San Diego County, California, and is expected to begin service on or about September 24, 2001.

Service Agreement No. 9 is an Expedited Interconnection Facilities Agreement dated September 21, 2001 between SDG&E and CalPeak Enterprise, under which SDG&E will construct, operate and maintain the proposed interconnection facilities. Service Agreement No. 10, the Interconnection Agreement between SDG&E and CalPeak Enterprise dated September 21, 2001, establishes interconnection and operating responsibilities and associated communications procedures between the parties.

SDG&E requests an effective date of September 21, 2001 for both agreements. SDG&E states that copies of the amended filing have been served on CalPeak Enterprise and on the California Public Utilities Commission.

Comment date: October 23, 2001, in accordance with Standard Paragraph E at the end of this notice.

3. Southern Energy Retail Trading and Marketing, Inc.

[Docket No. ER02-1-000]

Take notice that on October 1, 2001, Southern Energy Retail Trading and Marketing, Inc. tendered for filing with the Federal Energy Regulatory Commission (Commission) a Notice of Cancellation pursuant to 18 CFR 35.15 (2001), in order to reflect the cancellation of its Market Rate Tariff, designated as Rate Schedule FERC No. 1, originally accepted for filing in Docket No. ER98-1149-000.

Comment date: October 23, 2001, in accordance with Standard Paragraph E at the end of this notice.

4. New England Power Pool

[Docket No. ER02-2-000]

Take notice that on October 1, 2001, the New England Power Pool (NEPOOL) Participants Committee filed with the Federal Energy Regulatory Commission (Commission) for acceptance materials (1) to permit NEPOOL to expand its membership to include AES Londonderry, L.L.C. (AESL), Long Island Lighting Company d/b/a LIPA (LIPA), and New Hampshire Office of Consumer Advocate (NHOCA); and (2) to terminate the membership of Merchant Energy Group of Americas, Inc. (MEGA).

The Participants Committee requests an effective date of October 1, 2001 for commencement of participation in NEPOOL by LIPA, December 1, 2001 for commencement of participation in NEPOOL by AESL and NHOCA, and August 21, 2001 for the termination of MEGA.

The Participants Committee states that copies of these materials were sent to the New England state governors and regulatory commissions and the Participants in NEPOOL.

Comment date: October 22, 2001, in accordance with Standard Paragraph E at the end of this notice.

5. MidAmerican Energy Company

[Docket No. ER02-3-000]

Take notice that on October 1, 2001, MidAmerican Energy Company (MidAmerican), filed with the Federal Energy Regulatory Commission (Commission), a Master Energy Sales Agreement (Agreement) dated September 1, 2001, entered into with Peoples Energy Services Corporation (Peoples), pursuant to MidAmerican's Rate Schedule for Power Sales, FERC Electric Tariff (Tariff), Original Volume No. 5. The Agreement constitutes a 1st revised Service Agreement No. 57, under the Tariff, between MidAmerican and Peoples.

MidAmerican requests a September 1, 2001 effective date for the Master Energy Sales Agreement and seeks a waiver of the Commission's notice requirement. MidAmerican has served a copy of the compliance filing on Peoples Energy Services Corporation, the Iowa Utilities Board, the Illinois Commerce Commission and the South Dakota Public Utilities Commission.

Comment date: October 22, 2001, in accordance with Standard Paragraph E at the end of this notice.

6. Pacific Gas and Electric Company

[Docket No. ER02-4-000]

Take notice that on October 1, 2001, Pacific Gas and Electric Company (PG&E) tendered for filing with the Federal Energy Regulatory Commission (Commission) a Notice of Cancellation of the PG&E First Revised Rate Schedule FERC No. 215 (Must-Run Service Agreement between Pacific Gas and Electric Company and the California Independent System Operator Corporation for the FMC Synchronous Condenser/Emergency Gas Turbine).

Copies of this filing have been served upon the California System Operator Corporation (ISO) and the California Public Utilities Commission.

Comment date: October 22, 2001, in accordance with Standard Paragraph E at the end of this notice.

7. Southern Company Services, Inc.

[Docket No. ER02-5-000]

Take notice that on October 1, 2001, Southern Company Services, Inc. (SCS), acting on behalf of Alabama Power Company (APC), Georgia Power Company, Gulf Power Company, Mississippi Power Company, and Savannah Electric and Power Company (collectively referred to as Southern Companies), filed with the Federal Energy Regulatory Commission (Commission), a Service Agreement for Conditional and Experimental Firm Point-to-Point Transmission Service Between SCS, as agent for Southern Companies, and Coral Power, L.L.C. Regarding OASIS request 1717624, under the Open Access Transmission Tariff of Southern Companies (FERC Electric Tariff, Fourth Revised Volume No. 5). Under this agreement, Coral will be provided monthly transmission service on a firm basis except for when providing such service could cause or potentially cause a stability-related problem that has been identified in the Southwest Quadrant of Southern Companies' transmission system.

Comment date: October 22, 2001, in accordance with Standard Paragraph E at the end of this notice.

8. Avista Corporation

[Docket No. ER02-6-000]

Take notice that on October 1, 2001, Avista Corporation (Avista) tendered for filing with the Federal Energy Regulatory Commission (Commission) an executed Service Agreement for Firm Point-To-Point Transmission Service under Avista's Open Access Transmission Tariff—FERC Electric Tariff, Volume No. 8 with Consolidated Irrigation District No. 19. The Service Agreement replaces an existing agreement that terminates on October 1, 2001.

Avista requests a waiver of the Commission's notice requirements to allow the Service Agreement to become effective on October 1, 2001.

Comment date: October 22, 2001, in accordance with Standard Paragraph E at the end of this notice.

9. Great Bay Power Corporation

[Docket No. ER02-7-000]

Take notice that on October 1, 2001, Great Bay Power Corporation (Great Bay) tendered for filing with the Federal Energy Regulatory Commission (Commission) a service agreement between Constellation Power Source, Inc. and Great Bay for service under Great Bay's revised Market-Based Rate Power Sales Tariff Volume No. 2 (Tariff). This Tariff was accepted for filing by the Commission on May 31, 2000, in Docket No. ER00-2211-000. The service agreement is proposed to be effective September 25, 2001.

Comment date: October 22, 2001, in accordance with Standard Paragraph E at the end of this notice.

10. Xcel Energy Services Inc.

[Docket No. ER02-8-000]

Take notice that on October 1, 2001, Xcel Energy Services, Inc. (XES), on behalf of Public Service Company of Colorado (Public Service), submitted for filing with the Federal Energy Regulatory Commission (Commission) a Second Amendment to the Power Purchase Agreement dated May 14, 1998 between Public Service and Holy Cross Energy. XES requests that this agreement become effective on October 1, 2001.

Comment date: October 22, 2001, in accordance with Standard Paragraph E at the end of this notice.

11. Southern Company Services, Inc.

[Docket No. ER02-9-000]

Take notice that on October 1, 2001, Southern Company Services, Inc. (SCS), acting on behalf of Alabama Power Company, Georgia Power Company, Gulf Power Company, Mississippi Power Company, and Savannah Electric and Power Company (collectively referred to as Southern Companies), filed with the Federal Energy Regulatory Commission (Commission) one agreement for network integration transmission service between Southern Companies and Generation Energy Marketing, a Department of SCS, as agent for Mississippi Power Company, under the Open Access Transmission Tariff of Southern Companies (FERC Electric Tariff, Fourth Revised Volume No. 5). Under this agreement, power will be delivered to the South Mississippi Electric Power Association's Coast EPA Lizana Delivery Point. This agreement is being filed in conjunction with a power sale by SCS, as agent for Mississippi Power Company, to the South Mississippi Electric Power Association under Southern Companies' Market-Based Rate Power Sales Tariff, as was approved in FERC Docket No. ER01-1284-000.

Comment date: October 22, 2001, in accordance with Standard Paragraph E at the end of this notice.

12. Duke Energy Oakland, LLC and Duke Energy South Bay, LLC

[Docket No. ER02-10-000]

Take notice that on October 1, 2001, Duke Energy Oakland, L.L.C. (DEO) and Duke Energy South Bay, L.L.C. (DESB) made an informational filing with the Federal Energy Regulatory Commission (Commission) detailing and supporting their Annual Fixed Revenue Requirements and their Variable O&M Rates as required by Schedule F of the reliability Must Run Agreement with the California Independent System Operator (CAISO). Copies of the filing have been served upon the CAISO both in hard copy and electronic format.

DEO and DESB request an effective date of January 2, 2002.

Comment date: October 22, 2001, in accordance with Standard Paragraph E at the end of this notice.

13. Pacific Gas and Electric Company

[Docket No. ER02-11-000]

Take notice that on October 1, 2001, Pacific Gas and Electric Company (PG&E) made an informational filing with the Federal Energy Regulatory Commission (Commission), for proposed revisions, to become effective January 1, 2002, to its Reliability Must-Run Service Agreements (RMR Agreements) with the California Independent System Operator Corporation (ISO) for Helms Power Plant (Helms), PG&E First Revised Rate Schedule FERC No. 207, Humboldt Bay Power Plant (Humboldt Bay), PG&E First Revised Rate Schedule FERC No 208, Hunters Point Power Plant (Hunters Point), PG&E First Revised Rate Schedule FERC No. 209, and San Joaquin Power Plant (San Joaquin), PG&E First Revised Rate Schedule FERC No. 211. This filing proposes revisions to portions of the listed Rate Schedules to adjust the applicable rates as required under the currently-effective RMR Agreement.

Copies of PG&E's filing have been served upon the ISO, the California Electricity Oversight Board, and the California Public Utilities Commission.

Comment date: October 22, 2001, in accordance with Standard Paragraph E at the end of this notice.

14. New England Power Pool

[Docket No. ER02-12-000]

Take notice that on October 1, 2001, the New England Power Pool (NEPOOL) Participants Committee tendered for filing with the Federal Energy Regulatory Commission (Commission) a Service Agreement for Long-Term Firm In Service pursuant to Section 205 of the Federal Power Act and 18 CFR 35.12 of the Commission's regulations. Acceptance of this Service Agreement will recognize the provision of Long-Term Firm In Service to Morgan Stanley Capital Group, Inc., in accordance with the provisions of the NEPOOL Open Access Transmission Tariff, as amended and supplemented, and the Commission's order issued July 16, 2001 in New England Power Pool, 96 FERC ¶ 61,087 (2001). An effective date of September 1, 2001 for commencement of transmission service has been requested.

Copies of this filing were sent to the NEPOOL Participants, the New England state governors and regulatory commissions, and all parties to the transaction.

Comment date: October 22, 2001, in accordance with Standard Paragraph E at the end of this notice.

15. Southwest Power Pool, Inc.

[Docket No. ER02-13-000]

Take notice that on October 1, 2001, Southwest Power Pool, Inc. (SPP) submitted for filing with the Federal Energy Regulatory Commission (Commission) a service agreement for Firm Point-to-Point Transmission Service with OG+E Energy Resources, Inc. (Transmission Customer). A copy of this filing was served on the Transmission Customer.

SPP requests an effective date of September 1, 2001 for this service agreement.

Comment date: October 22, 2001, in accordance with Standard Paragraph E at the end of this notice.

16. West Texas Utilities Company

[Docket No. ER02-14-000]

Take notice that on October 1, 2001, West Texas Utilities Company (WTU) filed with the Federal Energy Regulatory Commission (Commission) a Restated and Amended Power Supply Agreement (Restated PSA) between WTU and the City of Weatherford, Texas (Weatherford) for the period July 17, 2001 through December 31, 2001 and a restated service agreement (Restated Service Agreement) between WTU and Weatherford under WTU's Market-Based Rate Tariff for the period on and after January 1, 2002. The only substantive change to the two documents is the addition of a new point of receipt to Exhibit A of each agreement.

WTU seeks an effective date of July 17, 2001 for the Restated PSA and an effective date of January 1, 2002 for the Restated Service Agreement and, accordingly, seeks waiver of the Commission's notice requirements to the extent necessary. Copies of the filing have been served on Weatherford and on the Public Utility Commission of Texas.

Comment date: October 22, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-25664 Filed 10-11-01; 8:45 am]

BILLING CODE 6717-01-P